DEPARTMENT OF HOUSING AND URBAN DEVELOPMENT

[Docket No. FR-7062-N-07]

Privacy Act of 1974; Rescindment of a System of Record Notice

AGENCY: Office of the Assistant Secretary for Housing-Federal Housing Commissioner, HUD.

ACTION: Rescindment of system of records notice (SORN).

SUMMARY: Pursuant to the Privacy Act of 1974 and Office of Management and Budget (OMB) Circular No. A-108, the Department of Housing and Urban Development, Finance and Budget, Office of Financial Services purposes to rescind existing systems of records “Title I Insurance and Claims System” and, “Property Improvement and Manufactured Mobile Home Loan-Default.” The Notice of Rescindment identifies the system of records, explains why the SORN is being rescinded, and provides an account of what happened to the records previously maintained in the system.

DATES: This notice action shall be effective immediately.

ADDRESSES: You may submit comments, identified by docket number and title, by any of the following methods:

Federal e-Rulemaking Portal: http://www.regulations.gov. Follow the instructions provided on that site to submit comments electronically.

Fax: 202-619-8365.

Email: www.privacy@.gov.

Mail: Attention: Privacy Office; Ladonne White, Chief Privacy Officer The Executive Secretariat; 451 Seventh Street SW, Room 10139; Washington, DC 20410.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White, Chief Privacy Officer; 451 Seventh Street SW, Room 10139; Washington, DC 20410; telephone number 202-708-3054 (this is not a toll-free number). Individuals who are hearing- or speech-impaired may access this telephone number via TTY by calling the Federal Relay Service at 800-877-8339 (this is a toll-free number).

SUPPLEMENTARY INFORMATION: Two systems are being provided for rescindment from the HUD Housing, Finance and Budget, Office of Financial Services system of records inventory. SORNs were identified for rescindment for one of four reasons: the records (1) are not Privacy Act records; (2) are maintained as part of a new or modified system of records; (3) are duplicative, and covered by another HUD system of records; or (4) are obsolete and no longer maintained by the HUD. A description of each rescindment justification, the applicable SORNs, and an account of what happened to the records is as follows:

1. Not a Privacy Act System of Records

Mere maintenance of personal information about an individual is not enough to create a Privacy Act system of records. To satisfy the elements of a system of records, there must be (1) a group of records; (2) under the control of a government agency; and (3) those records must be retrieved by a name or other personal identifier. When one condition is no longer met, the collection ceases to qualify as a system of records. Accordingly, the following SORN was identified for rescindment as is no longer meet the definition of a Privacy Act system of records:

Title I Insurance and Claims System. SORN filed pursuant to regulations implementing the Title I loan program, 24 CFR 201.1 through 200.63. HUD's statutory authority for implementing the regulations supporting HUD programs is found at 42 U.S.C 3532(a) and (b) and at 12 U.S.C. 1701(a) and (c). During 2006, this SORN published and during June 2019 the Office upgraded their busines practice to no longer retrieve records by a personal unique identifier, such as name. Records maintained and used by system are no longer retrieved by unique personal identifier.

2. Maintained as Part of a New or Modified Systems of Records

Property Improvement and Manufactured [Mobile] Home Loan-Default SORN filed pursuant to Title I, Sec. 2, National Housing Act, 12 U.S.C. 1703; Federal Claims Collection Act of 1966 (Sec. 1, Pub. L 89-506). Records maintained and used by the Office of Housing Albany Financial Operations Center were consolidated and migrated into modified Debt Collection Asset Management (DCAMS) SORN, HUD/HS-55, August 2005. Records maintained and used by system of records are retrieved by Name and Social Security Number.

HISTORY:

HUD/HS-54, 71 FR 36351 (June 26, 2006); HUD/DEPT-28, 46 FR 54878 (November 4, 1981).

LaDonne White,
Departmental Privacy Officer.

[FR Doc. 2022-20515 Filed 9-21-22; 8:45 am]

BILLING CODE 4210-67-P